CORPORATION FOR NATIONAL AND COMMUNITY SERVICE

Revision of Currently Approved Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9 a.m. and 4:30 p.m. Eastern time, Monday through Friday.

DATES: Written comments must be submitted to the office listed in the ADDRESSES section by August 31, 2003.

ADDRESSES: Send comments to the Corporation for National and Community Service, National Senior Service Corps, Attn: Angela Roberts, Senior Program Officer, 1201 New York Avenue, NW, Washington, DC 20525. Comments may also be sent via e-mail to aroberts@cns.gov.

FOR FURTHER INFORMATION CONTACT: Angela Roberts, (202) 606-5000, ext. 111.

SUPPLEMENTARY INFORMATION: Currently, the Corporation is soliciting comments concerning the revision of its National Senior Service Corps Project Progress Report (OMB Control Number 3045-0033, with an expiration date of 5/31/2003). However, the Corporation has submitted an extension request to OMB to allow for the continued use of this report during the public comment period and the OMB review. Copies of the information collection request can be obtained by contacting the office listed below in the ADDRESSES section of this notice.

Comment Request

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g., permitting electronic submissions of responses.

Background

The Progress Report (PPR) was designed to assure that National Service Corps (NSSC) grantees address and fulfill legislated program purposes, meet agency program management and grant requirements, and assess progress toward work plan objectives agreed upon in the granting of the award.

Current Action

The Corporation seeks to revise the current PPR: (a) Enhance data elements collected via this information collection tool; (b) migrate the paper version of the form to the Corporation's electronic grants management system, eGrants; and (c) establish reporting periods consistent with the Corporation's integrated grants management and reporting policies.

The Corporation anticipates making available to all NSSC grantees an OMB approved revised PPR by October of 2003.

The revised PPR will be used by NSSC grantees to report progress toward accomplishing work plan goals and objectives, meeting challenges encountered, describing significant activities, and requesting technical assistance. Submission requirements are proposed to be revised as follows:

• Established multi-year NSSC grantees will submit the complete report semi-annually within 30 days of the end of their annual budget cycle.

• New projects in their first year, new components of statewide projects, demonstrations, and projects experiencing problems or with substantial project revisions will submit the PPR quarterly.

Type of Review: Revision of a currently approved collection.

Agency: Corporation for National and Community Service.

Title: National Senior Services Corps Project Progress Report.

OMB Number: 3045-0033.

Agency Number: CNCS Form 1020.

Affected Public: Sponsors of National Senior Service Corps grants.

Total Respondents: 1,350.

Frequency: Semi-annual. It is estimated that 1,250 will respond semi-annually and 100 quarterly.

Average Time Per Response: 9.7 hours.

Estimated Total Burden Hours: 12,550 hours.

Total Burden Cost (capital/startup): None.

Total Burden Cost (operating/maintenance): $2,599.

Comments submitted in response to this notice will be summarized and/or included in the request for Office of Management and Budget approval of the information collection request; they will also become a matter of public record.

Dated: May 21, 2003.
Tess Scannell,
Director, National Senior Service Corps.

[FR Doc. 03-13259 Filed 5-27-03; 8:45 am]

BILLING CODE 6050-$$-P